SECURITIES AND EXCHANGE COMMISSION

[Release No. IC-27541]

Notice of Applications for Deregistration Under Section 8(f) of the Investment Company Act of 1940

October 27, 2006.

The following is a notice of applications for deregistration under section 8(f) of the Investment Company Act of 1940 for the month of October 2006. A copy of each application may be obtained for a fee at the SEC's Public Reference Branch (tel. 202-551-5850). An order granting each application will be issued unless the SEC orders a hearing. Interested persons may request a hearing on any application by writing to the SEC's Secretary at the address below and serving the relevant applicant with a copy of the request, personally or by mail. Hearing requests should be received by the SEC by 5:30 p.m. on November 17, 2006, and should be accompanied by proof of service on the applicant, in the form of an affidavit or, for lawyers, a certificate of service. Hearing requests should state the nature of the writer's interest, the reason for the request, and the issues contested. Persons who wish to be notified of a hearing may request notification by writing to the Secretary, U.S. Securities and Exchange Commission, 100 F Street, NE., Washington, DC 20549-1090.

FOR FURTHER INFORMATION CONTACT: Diane L. Titus at (202) 551-6810, SEC, Division of Investment Management, Office of Investment Company Regulation, 100 F Street, NE., Washington, DC 20549-4041.

Pebblebrook Fund Inc. [File No. 811-21297]

Summary: Applicant seeks an order declaring that it has ceased to be an investment company. On June 15, 2006, applicant made a liquidating distribution to its shareholders, based on net asset value. Applicant incurred no expenses in connection with the liquidation.

Filing Dates: The application was filed on August 2, 2006, and amended on August 30, 2006 and October 24, 2006.

Applicant's Address: 13047 Pebblebrook Dr., Houston, TX 77079.

AllianceBernstein Multi-Market Strategy Trust, Inc. [File No. 811-6251]

Summary: Applicant seeks an order declaring that it has ceased to be an investment company. By August 4, 2006, applicant had made a liquidating distribution to all shareholders, based on net asset value. Expenses of $25,923 incurred in connection with the liquidation were paid by AllianceBernstein L.P., applicant's investment adviser.

Filing Dates: The application was filed on August 29, 2006, and amended on October 6, 2006.

Applicant's Address: 1345 Avenue of the Americas, New York, NY 10105.

Evergreen Fund [File No. 811-2193]

Evergreen Foundation Trust [File No. 811-5953]

Summary: Each applicant seeks an order declaring that it has ceased to be an investment company. On or about December 22, 1997, each applicant transferred its assets to a corresponding, newly-created series of Evergreen Equity Trust, based on net asset value. Expenses incurred in connection with the reorganizations were paid by applicants.

Filing Date: The applications were filed on October 5, 2006.

Applicants' Address: 200 Berkeley St., Boston, MA 02116.

The Brazil Fund, Inc. [File No. 811-5269]

Summary: Applicant, a closed-end investment company, seeks an order declaring that it has ceased to be an investment company. On June 9, 2006, applicant made a liquidating distribution to shareholders, based on net asset value. Expenses of $493,407 incurred in connection with the liquidation were paid by applicant. Applicant has retained $2,954,219 in cash to pay outstanding liabilities and expenses.

Filing Dates: The application was filed on July 28, 2006, and amended on October 13, 2006.

Applicant's Address: 345 Park Ave., New York, NY 10154.

Scudder Portfolios [File No. 811-3440]

Summary: Applicant seeks an order declaring that it has ceased to be an investment company. On September 17, 2005, applicant transferred its assets to DWS Cash Investment Trust (formerly, Scudder Cash Investment Trust), based on net asset value. Expenses of $220,718 incurred in connection with the reorganization were paid by Deutsche Investment Management Americas, Inc., applicant's investment adviser.

Filing Dates: The application was filed on July 6, 2006, and amended on October 3, 2006.

Applicant's Address: 222 South Riverside Plaza, Chicago, IL 60606.

Scudder Investors Portfolio Trust [File No. 811-8375]

Summary: Applicant seeks an order declaring that it has ceased to be an investment company. On August 20, 2004, applicant made a liquidating distribution to its shareholders, based on net asset value. Expenses of $32,083 incurred in connection with the liquidation were paid by Investment Company Capital Corp., applicant's investment adviser.

Filing Dates: The application was filed on June 29, 2006, and amended on October 3, 2006.

Applicant's Address: P O Box 501 Cardinal Ave., Grand Cayman, Cayman Island BWI.

Wilmington Low Volatility Fund of Funds [File No. 811-21412]

Summary: Applicant, a closed-end investment company, seeks an order declaring that it has ceased to be an investment company. On December 22, 2005, applicant made a liquidating distribution to its shareholders, based on net asset value. Expenses of $3,000 incurred in connection with the liquidation were paid by Rodney Square Management Corporation, applicant's investment adviser and sponsor.

Filing Dates: The application was filed on August 29, 2006, and amended on September 29, 2006.

Applicant's Address: 1100 North Market, Wilmington, DE 19890.

Core Trust (DE) [File No. 811-8858]

Summary: Applicant, a master fund in a master-feeder structure, seeks an order declaring that it has ceased to be an investment company. On June 9, 2003, each feeder fund of applicant made a liquidating withdrawal of its interest in applicant's corresponding portfolio, based on net asset value. Applicant incurred no expenses in connection with the liquidation.

Filing Dates: The application was filed on June 8, 2006, and amended on August 21, 2006, and October 6, 2006.

Applicant's Address: Two Portland Sq., Portland, ME 04101.

Mezzacappa Multi-Strategy Fund, LLC [File No. 811-21415]

Mezzacappa Multi-Strategy Plus Fund, LLC [File No. 811-21468]

Summary: Each applicant, a closed-end management company, seeks an order declaring that it has ceased to be an investment company. Applicants have never made a public offering of their securities and do not propose to make a public offering or engage in business of any kind.

Filing Dates: The applications were filed on December 13, 2004, and amended on October 11, 2006.

Applicants' Address: 630 Fifth Ave., New York, NY 10111.

Liberty Variable Investment Trust [File No. 811-7556]

Summary: Applicant seeks an order declaring that it has ceased to be an investment company. On May 11, 2005, Applicant's board of directors approved the merger of Applicant and Columbia Variable Insurance Trust. Applicant distributed its assets on May 1, 2006, pursuant to the merger. In connection with the merger, the Applicant and its advisor, Columbia Management Advisors, each paid 75% and 25% respectively of the following expenses: legal expenses of $73,576.00 and SEC registration fees of $136,561.00.

Filing Dates: The application was filed on June 23, 2006, and amended on July 18, 2006.

Applicant's Address: One Financial Center, Boston, Massachusetts 02111.

Northstar Life Variable Universal Life Account [811-9807]

Summary: Applicant, a separate account for variable annuities, seeks an order declaring that it has ceased to be an investment company. On December 27, 2005, Applicant made a liquidating distribution to its sole shareholder, Northstar Life Insurance Company, based on net asset value. Expenses of $2500 incurred in connection with the liquidation were paid by Northstar Life Insurance Company, which is also the depositor of the separate account. Applicant has never had any contractowners invested in the separate account.

Filing Dates: The application was filed on April 24, 2006, and amended on October 17, 2006.

Applicant's Address: Northstar Life Insurance Company, The Trebloc Building, 301 East State Street, Ithaca, New York 14850.

Allstate Life of New York Variable Account II [File No. 811-6117]

Summary: Applicant seeks an order declaring that it has ceased to be an investment company. On March 26, 2004, the board of directors approved applicant's merger with another fund. The fund surviving the merger is the Allstate Life of New York Separate Account A. Allstate Life Insurance Company of New York, the depositor, paid expenses of $1,500 incurred in connection with the merger.

Filing Date: The application was filed on October 11, 2006.

Applicant's Address: 100 Motor Parkway, Hauppauge, NY 11788.

Allstate Life Insurance Company Separate Account A [File No. 811-9227]

Summary: Applicant seeks an order declaring that it has ceased to be an investment company. On March 12, 2004, the board of directors approved applicant's merger with another fund. The fund surviving the merger is the Allstate Financial Advisors Separate Account I. Allstate Life Insurance Company, the depositor, paid expenses of $1,500 incurred in connection with the merger.

Filing Date: The application was filed on October 11, 2006.

Applicant's Address: 3100 Sanders Road, Northbrook, Illinois 60062.

Allstate Life of New York Variable Annuity Account [File No. 811-5789]

Summary: Applicant seeks an order declaring that it has ceased to be an investment company. On March 26, 2004, the board of directors approved applicant's merger with another fund. The fund surviving the merger is the Allstate Life of New York Separate Account A. Allstate Life Insurance Company of New York, the depositor, paid expenses of $1,500 incurred in connection with the merger.

Filing Date: The application was filed on October 11, 2006.

Applicant's Address: 100 Motor Parkway, Hauppauge, NY 11788.

Glenbrook Life Scudder Variable Account A [File No. 811-8911]

Summary: Applicant seeks an order declaring that it has ceased to be an investment company. On March 10, 2004, the board of directors approved applicant's merger with another fund. The fund surviving the merger is the Glenbrook Life Multi-Manager Variable Account. Glenbrook Life and Annuity Company, the depositor, paid expenses of $1,500 incurred in connection with the merger.

Filing Date: The application was filed on October 11, 2006.

Applicant's Address: 3100 Sanders Road, Northbrook, Illinois 60062.

Glenbrook Life AIM Variable Life Separate Account A [File No. 811-8175]

Summary: Applicant seeks an order declaring that it has ceased to be an investment company. On March 10, 2004, the board of directors approved applicant's merger with another fund. The fund surviving the merger is the Glenbrook Life Variable Life Separate Account A. Glenbrook Life and Annuity Company, the depositor, paid expenses of $1,500 incurred in connection with the merger.

Filing Date: The application was filed on October 11, 2006.

Applicant's Address: 3100 Sanders Road, Northbrook, Illinois 60062.

Glenbrook Life and Annuity Account [File No. 811-7632]

Summary: Applicant seeks an order declaring that it has ceased to be an investment company. On March 10, 2004, the board of directors approved applicant's merger with another fund. The fund surviving the merger is the Glenbrook Multi-Manager Variable Account. Glenbrook Life and Annuity Company, the depositor, paid expenses of $1,500 incurred in connection with the merger.

Filing Date: The application was filed on October 11, 2006.

Applicant's Address: 3100 Sanders Road, Northbrook, Illinois 60062.

Glenbrook Life Variable Separate Account A [File No. 811-7825]

Summary: Applicant seeks an order declaring that it has ceased to be an investment company. On July 28, 2004, and August 4, 2004, the boards of directors of Allstate Life Insurance Company (“Allstate”) and Glenbrook Life and Annuity Company (“Glenbrook”), respectively, in connection with the merger of Glenbrook into Allstate, determined that efficiency could be improved if the applicant was merged into the Allstate Financial Advisors Separate Account I. Glenbrook paid expenses of $1,500 incurred in connection with the merger.

Filing Date: The application was filed on October 11, 2006.

Applicant's Address: 3100 Sanders Road, Northbrook, Illinois 60062.

Glenbrook Life Multi-Manager Variable Account [File No. 811-7541]

Summary: Applicant seeks an order declaring that it has ceased to be an investment company. On July 28, 2004, and August 4, 2004, the boards of directors of Allstate Life Insurance Company (“Allstate”) and Glenbrook Life and Annuity Company (“Glenbrook”), respectively, in connection with the merger of Glenbrook into Allstate, determined that efficiency could be improved if the applicant was merged into the Allstate Financial Advisors Separate Account I. Glenbrook paid expenses of $1,500 incurred in connection with the merger.

Filing Date: The application was filed on October 11, 2006.

Applicant's Address: 3100 Sanders Road, Northbrook, Illinois 60062.

Glenbrook Life and Annuity Company Separate Account A [File No. 811-7351]

Summary: Applicant seeks an order declaring that it has ceased to be an investment company. On July 28, 2004, and August 4, 2004, the boards of directors of Allstate Life Insurance Company (“Allstate”) and Glenbrook Life and Annuity Company (“Glenbrook”), respectively, in connection with the merger of Glenbrook into Allstate, determined that efficiency could be improved if the applicant was merged into the Allstate Financial Advisors Separate Account I. Glenbrook paid expenses of $1,500 incurred in connection with the merger.

Filing Date: The application was filed on October 11, 2006.

Applicant's Address: 3100 Sanders Road, Northbrook, Illinois 60062.

Northbrook Variable Annuity Account [File No. 811-3688]

Summary: Applicant seeks an order declaring that it has ceased to be an investment company. On July 30, 2002, the board of directors approved applicant's merger with another fund. The fund surviving the merger is the Allstate Financial Advisors Separate Account I. Northbrook Life Insurance Company, the depositor, paid expenses of $1,500 incurred in connection with the merger.

Filing Date: The application was filed on October 11, 2006.

Applicant's Address: 3100 Sanders Road, Northbrook, Illinois 60062.

Northbrook Variable Annuity Account II [File No. 811-6116]

Summary: Applicant seeks an order declaring that it has ceased to be an investment company. On July 30, 2002, the board of directors approved applicant's merger with another fund. The fund surviving the merger is the Allstate Financial Advisors Separate Account I. Northbrook Life Insurance Company, the depositor, paid expenses of $1,500 incurred in connection with the merger.

Filing Date: The application was filed on October 11, 2006.

Applicant's Address: 3100 Sander Road, Northbrook, Illinois 60062.

For the Commission, by the Division of Investment Management, pursuant to delegated authority.
Nancy M. Morris,
Secretary.

[FR Doc. E6-18474 Filed 11-1-06; 8:45 am]

BILLING CODE 8011-01-P